DEPARTMENT OF COMMERCE

Foreign-Trade Zones Board

[S-102-2017]

Foreign-Trade Zone 231—Stockton, California; Application for Subzone Expansion; 5.11, Inc.; Modesto and Lathrop, California

An application has been submitted to the Foreign-Trade Zones (FTZ) Board by the Port of Stockton, grantee of FTZ 231, requesting expanded subzone status for the facilities of 5.11, Inc., located in Modesto and Lathrop, California. The application was submitted pursuant to the provisions of the Foreign-Trade Zones Act, as amended (19 U.S.C. 81a-81u), and the regulations of the FTZ Board (15 CFR part 400). It was formally docketed on June 29, 2017.

Subzone 231B consists of the following sites: Site 1 (5.22 acres) 4300 Spyres Way, Modesto; and, Site 2 (5 acres) 17610 Shideler Parkway, Lathrop. The applicant is now requesting authority to expand the subzone to include proposed Site 3: 3201 North Airport Way, Manteca (24.75 acres). No authorization for production activity has been requested at this time. The proposed expanded subzone would be subject to the existing activation limit of FTZ 231.

In accordance with the FTZ Board's regulations, Christopher Kemp of the FTZ Staff is designated examiner to review the application and make recommendations to the Executive Secretary.

Public comment is invited from interested parties. Submissions shall be addressed to the FTZ Board's Executive Secretary at the address below. The closing period for their receipt is August 15, 2017. Rebuttal comments in response to material submitted during the foregoing period may be submitted during the subsequent 15-day period to August 30, 2017.

A copy of the application will be available for public inspection at the Office of the Executive Secretary, Foreign-Trade Zones Board, Room 21013, U.S. Department of Commerce, 1401 Constitution Avenue NW., Washington, DC 20230-0002, and in the “Reading Room” section of the FTZ Board's Web site, which is accessible via www.trade.gov/ftz.

For further information, contact Christopher Kemp at christopher.kemp@trade.gov or (202) 482-0862.

Dated: June 29, 2017.
Elizabeth Whiteman,
Acting Executive Secretary.

[FR Doc. 2017-14176 Filed 7-5-17; 8:45 am]

BILLING CODE 3510-DS-P